DEPARTMENT OF AGRICULTURE

Forest Service

Hood/Willamette Resource Advisory Committee

AGENCY: Forest Service, USDA.

ACTION: Notice of meeting.

SUMMARY: The Hood/Willamette Resource Advisory Committee will meet in Salem, Oregon. The committee is meeting as authorized under the Secure Rural Schools and Community Self-Determination Act (Pub. L. 110-343) and in compliance with the Federal Advisory Committee Act. The purpose of the meeting is to present the 2012 project proposals to the committee.

DATES: The meeting will be held on April 22, 2011, and begin at 9:30 a.m.

ADDRESSES: The meeting will be held at Salem Office of the Bureau of Land Management Office; 1717 Fabry Road SE; Salem, Oregon; (503) 375-5646. Written comments should be sent to James Rudisill, McKenzie River Ranger District, 57600 McKenzie Hwy, McKenzie Bridge, OR 97413. Comments may also be sent via e-mail to jamesrudisill@fs.fed.us, or via facsimile to 541-822-7254.

All comments, including names and addresses when provided, are placed in the record and are available for public inspection and copying. The public may inspect comments received at McKenzie River Ranger District, 57600 McKenzie Hwy, McKenzie Bridge, Oregon.

FOR FURTHER INFORMATION CONTACT: James Rudisill, McKenzie River Ranger District, 57600 McKenzie Hwy, McKenzie Bridge, OR 97413; (541) 822-7203; E-mail: jamesrudisill@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Election of chairperson; (2) Decision on overhead rate for 2012 projects; (3) Presentation of 2012 Projects; and (4) Public Forum. The Public Forum is tentatively scheduled to begin at 10:15 a.m. Time allotted for individual presentations will be limited to 4-5 minutes. Written comments are encouraged, particularly if the material cannot be presented within the time limits for the Public Forum. Written comments may be submitted prior to the April 22nd meeting by sending them to James Rudisill at the address given above.

Dated: March 14, 2011.
Kathryn J Silverman,
Acting Forest Supervisor.

[FR Doc. 2011-6370 Filed 3-17-11; 8:45 am]

BILLING CODE 3410-11-P